DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

SPATIAL for Altering Cell Proliferation

Ronald E. Gress, Francis A. Flomerfelt (NCI).

PCT Application No. PCT/US03/36874 filed 18 Nov 2003 (DHHS Reference No. E-177-2003/0-PCT-01).

Licensing Contact: Fatima Sayyid; (301) 435-4521; sayyidf@mail.nih.gov.

The present invention provides methods useful for altering cell proliferation by modifying SPATIAL, a gene expressed predominantly in thymus and lymph node, activity in cells. In some methods the thymocyte numbers in subjects with disease-associated immunodeficiencies are increased by administering an agent that inhibits SPATIAL activity. Other methods include but are not limited to increasing thymocyte number in a subject by administering an agent that interferes with an interaction between SPATIAL and Uba3.

Methods for the Treatment of Parkinson's Disease and Other alpha-synucleinopathies

M. Maral Mouradian and Eunsung Junn (NINDS)

U.S. Provisional Application No. 60/444,563 filed 02 Feb 2003 (DHHS Reference No. E-091-2003/0-US-01)

Licensing Contact: Norbert Pontzer; (301) 435-5502, pontzern@mail.nih.gov

Parkinson's disease (PD) is a neurodegenerative disorder characterized by the loss of dopaminergic neurons in the substantia nigra pars compacta. During the course of the disease, proteinaceous cytoplasmic inclusions known as Lewy bodies appear in the dopaminergic neurons. Several lines of evidence point to a key role for alpha-synuclein, a major constituent of Lewy bodies, in the pathogenesis of these disorders. In particular, the aggregation of this protein is believed to be deleterious to neurons. These inventors have now discovered that transglutaminase 2, also referred to as tissue transglutaminase, catalyzes alpha-synuclein cross-linking in vitro and in cultured cells. Evidence for the activity of this enzyme is also provided within the Lewy bodies in Parkinson's patients. The present invention provides novel methods for the treatment of Parkinson's disease and other alpha-synucleinopathies with inhibitors of transglutaminase, which can inhibit aggregation of alpha-synuclein. Also provided are screening assays for novel inhibitors of transglutaminase that may be used in the treatment of Parkinson's disease and other alpha-synucleinopathies. Further information may be found in Junn et al., PNAS 2003 100(4): 2047-2052.

Dated: February 10, 2004.
Steven M. Ferguson,
Director, Division of Technology Development and Transfer, Office of Technology Transfer, National Institutes of Health.

[FR Doc. 04-3527 Filed 2-18-04; 8:45 am]

BILLING CODE 4140-01-P